ENVIRONMENTAL PROTECTION AGENCY

[EPA-HQ-OPP-2008-0473; FRL-9313-5]

Agency Information Collection Activities; Submission to OMB for Review and Approval; Comment Request

AGENCY: Environmental Protection Agency (EPA).

ACTION: Notice.

SUMMARY: In compliance with the Paperwork Reduction Act (PRA)(44 U.S.C. 3501 et seq.), this document announces that the following Information Collection Request (ICR) has been forwarded to the Office of Management and Budget (OMB) for review and approval: Pesticide Program Public Sector Collections (FIFRA sections 18 & 24(c)); EPA ICR No. 2311.01, OMB Control No. 2070-New. This is a request to combine two currently approved collections to increase clarity and streamline review of the collection activities and related burdens. The ICR, which is abstracted below, describes the nature of the information collection activities and related estimated burden and cost.

DATES: Additional comments may be submitted on or before July 1, 2011.

ADDRESSES: Submit your comments, referencing Docket ID No. EPA-HQ-OPP-2008-0473, to (1) EPA online using http://www.regulations.gov (our preferred method), or by mail to: Office of Pesticide Programs (OPP) Regulatory Public Docket (7502P), Environmental Protection Agency, 1200 Pennsylvania Ave., NW., Washington, DC 20460, and (2) OMB by mail to: Office of Information and Regulatory Affairs, Office of Management and Budget (OMB), Attention: Desk Officer for EPA, 725 17th Street, NW., Washington, DC 20503.

FOR FURTHER INFORMATION CONTACT: Cameo G. Smoot, Field and External Affairs Division, Office of Pesticide Programs, 7506P, Environmental Protection Agency, 1200 Pennsylvania Ave., NW., Washington, DC 20460; telephone number: 703-305-5454; fax number: 703-305-5884; e-mail address: smoot.cameo@epa.gov.

SUPPLEMENTARY INFORMATION: EPA has submitted the following ICR to OMB for review and approval according to the procedures prescribed in 5 CFR 1320.12. On November 5, 2008 (73 FR 65846), EPA sought comments on this ICR pursuant to 5 CFR 1320.8(d). EPA received no public comments. Any additional comments on this ICR should be submitted to EPA and OMB within 30 days of this notice.

EPA has established a public docket for this ICR under Docket ID No. EPA-HQ-OPP-2008-0473 which is available for online viewing at http://www.regulations.gov, or in person viewing at the Docket in the EPA Docket Center (EPA/DC), EPA West, Room 3334, 1301 Constitution Ave., NW., Washington, DC. The EPA/DC Public Reading Room is open from 8 a.m. to 4:30 p.m., Monday through Friday, excluding legal holidays. The telephone number for the Reading Room is 202-566-1744, and the telephone number for the OPP Regulatory Public Docket is (703) 305-5805.

Use EPA's electronic docket and comment system at http://www.regulations.gov, to submit or view public comments, access the index listing of the contents of the docket, and to access those documents in the docket that are available electronically. Once in the system, select “docket search,” then key in the docket ID number identified above. Please note that EPA's policy is that public comments, whether submitted electronically or in paper, will be made available for public viewing at http://www.regulations.gov as EPA receives them and without change, unless the comment contains copyrighted material, confidential business information (CBI), or other information whose public disclosure is restricted by statute. For Further Information about the electronic docket, go to http://www.regulations.gov.

Title: Pesticide Program Public Sector Collections (FIFRA sections 18 & 24(c)).

ICR Numbers: EPA ICR No. 2311.01, OMB Control No. 2070-New.

ICR Status: This ICR reflects the combination of the following two currently approved ICRs: “Applications and Summary Report for Emergency Exemption” (EPA ICR No. 0596.08, OMB Control No. 2070-0032), which is scheduled to expire July 31, 2012, and “Notice of Pesticide Registration by States to Meet a Special Local Need” (EPA ICR No.0595.08, OMB Control No. 2070-0055), which is scheduled to expire March 31, 2013.

Under OMB regulations, the Agency may continue to conduct or sponsor the collection of information while this submission is pending at OMB. An Agency may not conduct or sponsor, and a person is not required to respond to, a collection of information unless it displays a currently valid OMB control number. The OMB control numbers for EPA's regulations in title 40 of the CFR, after appearing in the Federal Register when approved, are listed in 40 CFR part 9, are displayed either by publication in the Federal Register, or by other appropriate means, such as on the related collection instrument or form, if applicable. The display of OMB control numbers for certain EPA regulations is consolidated in 40 CFR part 9.

Abstract: This ICR covers the paperwork burden associated with pesticide registration requests made by States, U.S. Territories, or Federal Agencies. Specifically, this ICR covers emergency requests for exemptions to allow for an unregistered use of a pesticide, and requests by States to register a pesticide to meet a special local need (SLN). Section 18 of the Federal Insecticide, Fungicide, and Rodenticide Act (FIFRA) authorizes EPA to process and grant emergency exemptions to States and Federal agencies to allow an unregistered use of a pesticide for a limited time if EPA determines that emergency conditions exist including granting unregistered pesticide use exemptions for public health and quarantine reasons. Section 24(c) of FIFRA authorizes the States to register additional uses of federally registered pesticides for distribution and use within the State to meet a SLN.

Burden Statement: The annual public reporting and recordkeeping burden for this collection of information is estimated to average 49,500 hours annually for State government “applicants” for the FIFRA Section 18 program and is estimated to average 36.036 hours annually for applicants under the FIFRA Section 24(c). The new ICR reflects a combined total of 85,536 burden hours annually. Burden is defined at 5 CFR 1320.3(b).

Estimated Number of Respondents: 1,193.

Frequency of Response: On occasion.

Estimated Total Annual Hour Burden: 85,536 hours.

Estimated Total Annual Cost: $4,874,015. This ICR does not involve any capital investment or maintenance and operational costs.

Changes in the Estimates: The combination of the currently approved ICRs is not expected to result in an overall decrease or increase of the 85,536 hours in the total estimated combined respondent burden that is currently approved by OMB.

Dated: May 24, 2011.
John Moses,
Director, Collection Strategies Division.

[FR Doc. 2011-13405 Filed 5-31-11; 8:45 am]

BILLING CODE 6560-50-P